DEPARTMENT OF DEFENSE

Department of the Air Force

Notice of Intent (NOI) To Prepare an Environmental Impact Statement (EIS) for Housing Privatization Phase II at Hickam Air Force Base and Bellows Air Force Station, O'ahu, HI (Including Privatization of Housing in Historic Districts Eligible for Inclusion on the National Historic Register of Historic Places)

AGENCY: United States Air Force.

ACTION: Notice of intent.

SUMMARY: Pursuant to the National Environmental Policy Act (NEPA) of 1969, as amended (42 United States Code 4321, et seq.), the Council on Environmental Quality (CEQ) Regulations for implementing the procedural provisions of NEPA (40 Code of Federal Regulations (CFR) Parts 1500-1508), and Air Force's Environmental Impact Analysis Process (EIAP) as implemented by 32 CFR Part 989, the United States Air Force (Air Force) is issuing this notice to advise the public of our preparation of an Environmental Impact Statement (EIS) for the Housing Privatization Phase II at Hickam Air Force Base (AFB) and Bellows Air Force Station (AFS), O'ahu, Hawaii (Including Privatization of Housing in Historic Districts Eligible for Inclusion on the National Register of Historic Places). The project will require Section 106 consultation pursuant to the National Historic Preservation Act to run concurrently with the NEPA documentation. The Air Force proposes to transfer 1,332 housing units (1,326 units on Hickam AFB and six units on Bellows AFS) and associated facilities (e.g., sidewalks and roads) to a successful offeror (SO) and implementation of a long-term lease to the SO for land associated with the housing units.

The current proposal evaluates four alternatives—(1) No Action; (2) Proposed Action: Privatization of remaining housing units on Hickam AFB and Bellows AFS to include the removal of historic homes from the housing inventory (demolition, relocate from the site, redesignation as non-residential units or a combination of these three sub alternatives); (3) privatization of remaining housing units on Hickam AFB and Bellows AFS with terms and conditions to insure preservation of historic property; and (4) privatization of remaining housing units on Hickam AFB and Bellows AFS with the exception of housing units in the historic districts that would remain under Government control.

Information: The Air Force, through the 15 Airlift Wing (AW), will conduct a Public Scoping Meeting on February 17, 2005, 6 p.m. at the Best Western Plaza Hotel, 3253 N. Nimitz Highway, Honolulu, Hawaii. The meeting's purpose is to determine the environmental issues and concerns to be analyzed, to solicit comments on the Proposed Action and alternatives, and to solicit input for other alternatives to be considered in the EIS. All comments received during the scoping meeting will be considered prior to the Air Force making a final decision.

Point of Contact: For further information concerning the proposed action or alternatives to the proposed action, please contact Mr. Richard Parkinson, Chief, Environmental Flight, 15 CES/CEV, 75 H Street, Hickam AFB, HI 96853-5233, phone: (808) 449-1584, x232.

Albert Bodnar,
Air Force Federal Register Liaison Officer.

[FR Doc. 05-2012 Filed 2-2-05; 8:45 am]

BILLING CODE 5001-05-P